COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products to be furnished by nonprofit agencies employing persons who are blind or have other severe disabilities.

DATES: Effective Date: July 15, 2007.

ADDRESSES: Committee for Purchase From People Who Are Blind or Severely Disabled, Jefferson Plaza 2, Suite 10800, 1421 Jefferson Davis Highway, Arlington, Virginia 22202-3259

FOR FURTHER INFORMATION CONTACT: Kimberly M. Zeich, Telephone: (703) 603-7740, Fax: (703) 603-0655, or e-mail CMTEFedReg@jwod.gov.

SUPPLEMENTARY INFORMATION: On April 20, 2007, the Committee for Purchase From People Who Are Blind or Severely Disabled published notice (72 FR 19878) of proposed additions to the Procurement List.

Comments were received from two cap manufacturers who are not current contractors for the cap requirement (Cap, Utility, Camouflage Pattern, Air Force (ABU)) which was proposed for addition to the Procurement List. Both manufacturers objected to the statement in the Regulatory Flexibility Act Certification contained in the Committee's notice of proposed addition to the Procurement List that the proposed addition “will not have a significant impact on a substantial number of small entities.” These two companies claimed that developments in the military headwear industry, including additions to the Procurement List, had severely reduced their opportunities in the industry, as well as reducing the number of small entities participating in the industry from five to two.

“Small entities” as defined by the Regulatory Flexibility Act at 5 U.S.C. 601(6) include small nonprofit agencies as well as small businesses. There are at least five nonprofit agencies participating in the Committee's program which are currently producing military headwear. Even if seven small entities could be considered a substantial number, the positive impact on five of them should balance the negative impact noted by the two manufacturers. Consequently, the Committee stands by its statement in the Regulatory Flexibility Act certification questioned by the two manufacturers.

This addition to the Procurement List merely raises the Committee's share of the cap in question from 25 percent of the Government requirement to 50 percent. It does not foreclose bidding by the two manufacturers on the remaining 50 percent of the requirement. In light of the fact that the Committee is only required to assess impact on the current contractors for a product being considered for addition to the Procurement List, the limitation of the Committee's share of the cap requirement shows that the Committee is sensitive to the industry impact concerns raised by the two manufacturers.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Cap, Utility, Camouflage Pattern, Air Force (ABU)

NSN: 8415-01-536-4140—Size 6½

NSN: 8415-01-536-4144—Size 6⅜

NSN: 8415-01-536-4148—Size 6⅝

NSN: 8415-01-536-4152—Size 6¾

NSN: 8415-01-536-4181—Size 6⅞

NSN: 8415-01-536-4183—Size 7

NSN: 8415-01-536-4185—Size 7⅛

NSN: 8415-01-536-4212—Size 7¼

NSN: 8415-01-536-4218—Size 7⅜

NSN: 8415-01-536-4221—Size 7½

NSN: 8415-01-536-4223—Size 7⅝

NSN: 8415-01-536-4226—Size 7¾

NSN: 8415-01-536-4229—Size 7⅞

NSN: 8415-01-536-4233—Size 8

NSN: 8415-01-536-4236—Size 8⅛

NSN: 8415-01-536-4240—Size 8¼

NSN: 8415-01-536-4245—Size 8⅜

NSN: 8415-01-536-4248—Size 8½

NPA: Southeastern Kentucky Rehabilitation Industries, Inc., Corbin, KY

Contracting Activity: Defense Supply Center Philadelphia, Philadelphia, PA

Coverage: C-List—The requirement being proposed to the Procurement List is an additional 25% of the Defense Supply Center Philadelphia, Philadelphia, PA requirement.

Clamp, Loop

NSN: 5340-01-527-6885

NPA: Provail, Seattle, WA

Contracting Activity: Defense Supply Center Philadelphia, Philadelphia, PA

Coverage: C-List—for the requirements of the Defense Supply Center Philadelphia, Philadelphia, PA

Latex Disposable Gloves

NSN: M.R. 553

Nitrile Disposable Gloves

NSN: M.R. 552

NPA: New York City Industries for the Blind, Inc., Brooklyn, NY

Contracting Activity: Defense Commissary Agency, Fort Lee, VA

Coverage: C-List—for the requirements of the Defense Commissary Agency, Fort Lee, VA

This action does not affect current contracts awarded prior to the effective date of this addition or options that may be exercised under those contracts.

Patrick Rowe,
Deputy Executive Director.

[FR Doc. E7-11569 Filed 6-14-07; 8:45 am]

BILLING CODE 6353-01-P